DEPARTMENT OF TRANSPORTATION

Federal Highway Administration

Conversion of Traveler Information Telephone Numbers to 511; Request for Participation

AGENCY: Federal Highway Administration (FHWA), DOT.

ACTION: Notice; request for participation.

SUMMARY: This document requests applications from public agencies for assistance in converting existing traveler information telephone numbers to the common three-digit national access number, 511. This assistance program provides Federal funding to public agencies to help defray the costs of telephone service providers in converting traveler information telephone numbers. Applications in response to this notice will be assessed to determine: (1) The level of coordination of the applicant with other agencies in the effected areas to reach agreement on a conversion approach for all traveler information numbers in the effected region; (2) the readiness of the applicant to convert traveler information telephone numbers in a timely fashion; and (3) the quality of the traveler information to be provided.

DATES: Applications to participate in the conversion of traveler information telephone numbers to 511 will be accepted anytime. Decisions regarding the acceptance of specific applications for funding will be made within 60 business days of receipt.

ADDRESSES: Applications to participate in the conversion of traveler information telephone numbers to 511 should be submitted directly to the Federal Highway Administration, Intelligent Transportation Systems (ITS) Joint Program Office, 511 Conversion, HOIT-1, 400 Seventh St. SW., Room 3416, Washington, D.C. 20590-0001.

FOR FURTHER INFORMATION CONTACT: Mr. William S. Jones, ITS Joint Program Office (HOIT-1), (202) 366-2128; Mr. Robert Rupert, Office of Travel Management (HOTM-1), (202) 366-2194; or Mr. Wilbert Baccus, Office of Chief Counsel (HCC-32), (202) 366-1346; Department of Transportation, Federal Highway Administration, 400 Seventh Street, SW., Washington, DC 20590-0001. Office hours are from 8 a.m. to 4:30 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.nara.gov/fedreg and the Government Printing Office's web page at http://www.access.gpo.gov/nara.

The document may also be viewed at the DOT's ITS home page at http://www.its.dot.gov.

Background

On March 8, 1999, the U.S. DOT petitioned the Federal Communications Commission (FCC) to adopt a new, national three-digit telephone number to allow Americans on the move access to on-the-spot transportation and traveler information, such as, road conditions and bus schedules. The burgeoning traffic reporter industry reflects the hunger that citizens have for more travel information, and the positive role the government can play as a partner in providing that information.

The nationwide three-digit number would utilize and significantly advance the intelligent transportation infrastructure already in place to assist some 45 States and cities in providing traveler information. The traveler information would continue to be provided by private companies or public/private partnerships already delivering this service. The number would provide information about bad weather, construction, or traffic jams that cause delays for businesses and the general public, as well as information about the status of transit buses, ferries, light rail, and other public transportation in local communities. In addition, by directing drivers away from congestion and hazardous conditions, the nationwide three-digit number would provide better access for emergency vehicles responding to accidents.

The FCC placed the U.S. DOT's petition in its docket (File No. NSD-L-99-24, CC Docket 92-105; 57 FR 22681, May 29, 1992), and comments submitted to the FCC were favorable to adoption of a national three-digit traveler information number. On July 21, 2000, the FCC assigned 511 as the nationwide traveler information telephone number.

In order to assist locations in converting existing telephone access numbers and facilitate implementing the 511 telephone service, the U.S. DOT developed a program of assistance to provide Federal funding to help defray the costs to convert existing traveler information telephone numbers to 511. This notice and request for participation implements that assistance.

This is anticipated as a three-year program with a total of up to $5 million of Federal funds available, and program funding beginning in fiscal year (FY) 2000. The maximum amount of Federal funding provided for any individual application is limited to $50,000. The number of applications approved for funding each FY will depend upon the number of applications submitted, the amount of assistance requested, and the total funding available (anticipated to be up to $2 million) for each FY.

Objectives of the Traveler Information Telephone Conversion Program

The goal of the Traveler Information Telephone Conversion Program is to accelerate the implementation of telephone number 511 nationwide for traveler information. Through this program, the U.S. DOT expects to enable the approximately 300 existing telephone numbers used to access traveler information around the country to be converted to 511, as approved by the FCC for traveler information.

Applications for the Traveler Information Telephone Conversion Program may be submitted by any public agency capable of receiving Federal funds, entering into agreements with telephone service providers, and acting on behalf of the effected parties in the geographic area specified in the application.

Funding

It is anticipated that conversions selected for funding will begin in FY 2000. Federal funding authority is derived from section 5001(a)(5) of the Transportation Equity Act for the 21st Century (TEA-21), Public Law 105-178, 112 Stat. 107, 419 (1998). Actual award of funds will be subject to funding availability. The anticipated amount of funding available in each FY is up to $2 million.

Federal ITS funding for the traveler information telephone conversion program may be used to support:

1. System design;

2. Conversion support including software modifications and necessary hardware changes; and

3. System and acceptance testing.

Matching Share/Cost Sharing

There is a twenty percent matching share that must be from non-federally derived funding sources, as statutorily required, and must consist of either cash, substantial equipment contributions that are wholly utilized as an integral part of the project, or personnel services dedicated full-time to the proposed integrated deployment for a substantial period, as long as such personnel are not otherwise supported with Federal funds. The non-federally derived funding may come from State, local government, or private sector partners. Note that funding identified to support continued operations, maintenance, and management of the system will not be considered as part of the partnership's cost-share contribution.

In an ITS partnership, as with other U.S. DOT cost-sharing grants, it is inappropriate for a fee to be included in the proposed budget as part of a partner's contribution to the project. This does not prohibit appropriate fee payments to vendors or others that may provide goods or services to the partnership. It also does not prohibit business relationships with the private sector, which result in revenues from the sale or provision of ITS products or services. U.S. DOT regulations require grant income to be deducted from expenditures before billing. Given prior approval, grant income can be used either as match or cost share.

The U.S. DOT and the Comptroller General of the United States have the right to access all documents pertaining to the use of Federal ITS funds and non-Federal contributions. Non-Federal partners must maintain sufficient documentation to substantiate these costs. Such items as direct labor, fringe benefits, material costs, consultant costs, public involvement costs, subcontractor costs, and travel costs should be included in that documentation.

Instructions to Applicants

An application to participate in the conversion of traveler information telephone numbers to 511 shall consist of three parts: Regional Coordination Arrangements, a Technical Plan, and a Financial Plan that together describe the proposed conversion approach. The complete application shall not exceed 20 pages in length, including the Regional Coordination Arrangements, the Technical Plan, the Financial Plan, the title page, index, and tables. A page is defined as one side of an 8½ by 11-inch paper, with a type font no smaller than 12 point.

Applications shall be submitted in an electronic format compatible with Microsoft Office 1997. The cover sheet or title page of the application shall include the name, address, and phone number of an individual to whom correspondence and questions about the application may be directed. Any portion of the application or its contents that may contain proprietary information shall be clearly indicated; otherwise, the application and its contents shall be non-proprietary.

Selection Criteria

Applicants must submit acceptable Regional Coordination, Technical, and Financial Plans that together provide sound evidence that the proposed conversion can successfully be completed in a timely fashion.

Proposals should be organized into the following three sections:

1. Regional Coordination Arrangements

The proposed conversion should demonstrate a coordination among affected agencies and firms in reaching agreement to convert existing traveler information telephone numbers to 511. Letters of agreement, memorandums of understanding (MOUs), and other documents shall be referenced and included as appropriate.

(a) The application should discuss current working relationships, existing cooperation, and information sharing among State, local, and other relevant public agencies, and the private sector for the dissemination of travel information services. The proposed conversion should demonstrate a commitment to cooperation among agencies, jurisdictions, and the private sector.

(b) The application should discuss any institutional or organizational issues that arose during discussions with affected parties, and the resolution of these issues. Any key decisions related to the timely implementation of the conversion shall be identified, especially if the decisions have not been made prior to application submittal.

(c) Memorandums of understanding, or other appropriate documentation, that clearly define the responsibilities and relationships of all parties, including institutional relationships and financial agreements needed to support the conversion, should be attached to the application.

2. Technical Plan

The Technical Plan shall describe how the proposed conversion will take place and describe the quality of the traveler information to be provided. The Technical Plan shall demonstrate that the appropriate telephone service providers have provided detailed plans and schedules for telephone number conversions.

In addition, an acceptable Technical Plan should:

(a) Contain an operational concept and technical approach that demonstrate how the proposed conversion will be fully implemented, as well as any incremental stages leading to full implementation. The specific roles and responsibilities of the all parties should be defined.

(b) Contain a technical approach that responds to traveler information needs of the entire affected area. A description of the affected area, including geographic size and major jurisdictions served. Any data or information exchanges among traveler information services and/or telephone service providers should be described along with implementation schedules.

(c) Describe the type(s) of information that will be available to a caller, and the method that will be used to access information. Descriptions of the information will include how frequently it is updated, any variations in details provided across the affected geographic area, any variations in coverage or details based on the time of the day, and the primary source(s) of the information, e.g., construction schedules, transit schedules, transportation management systems, enforcement dispatch systems.

(d) Demonstrate that the proposed system follows the privacy principles developed by ITS America. For further information, see “References and Note to Applicants” below. Where the privacy principles conflict with applicable Federal and State law, the latter shall prevail.

References and Note to Applicants: The ITS privacy principles are available from ITS AMERICA, 400 Virginia Avenue SW., Suite 800, Washington, DC 20024, telephone (202) 484-4847. The document is also available on the Internet at http://www.itsa.org.

3. Financial Plan

The Financial Plan should demonstrate that sufficient funding is available to successfully complete all aspects of the proposed conversion as described in the Technical Plan. The Financial Plan should also provide the financial information described under the heading, Matching Share/Cost Sharing.

An acceptable Financial Plan should:

(a) Provide a clear identification of the proposed funding for the conversion of traveler information telephone numbers to 511, and a commitment that no more than 80 percent of the total cost will be supported by these Federal ITS funds. All financial commitments, from both the public and private sectors, should be documented in signed MOUs, or other appropriate documents.

(b) Describe how the conversion will be implemented and how the traveler information service(s) will be operated to ensure the timely implementation and the continued, long-term operations of the system.

(c) Include documented evidence of continuing fiscal capacity and commitment from anticipated public and private sources.

(d) Include corresponding public and/or private investments that minimize the relative percentage and amount of Federal ITS funds.

Authority: sec. 5001(a)(5), Pub. L. 105-178, 112 Stat. 107, 420; 23 U.S.C. 315; and 49 CFR 1.48.

Issued on: August 1, 2000.
Kenneth R. Wykle,
Federal Highway Administrator.

[FR Doc. 00-20083 Filed 8-8-00; 8:45 am]

BILLING CODE 4910-22-P